NATIONAL AERONAUTICS AND SPACE ADMINISTRATION

[Notice (03-084]

NASA Advisory Council, Space Science Advisory Committee; Meeting

AGENCY: National Aeronautics and Space Administration (NASA).

ACTION: Notice of meeting.

SUMMARY: In accordance with the Federal Advisory Committee Act, Pub. L. 92-463, as amended, the National Aeronautics and Space Administration announces a forthcoming meeting of the NASA Advisory Council (NAC), Space Science Advisory Committee (SScAC).

DATES: Monday, August 11, 2003, 8:30 a.m. to 5:30 p.m., Tuesday, August 12, 2003, 8:30 a.m. to 5:30 p.m., and Wednesday, August 13, 2003, 8:30 a.m. to Noon.

ADDRESSES: National Aeronautics and Space Administration, room 6H46, 300 E Street, SW., Washington, DC 20546.

FOR FURTHER INFORMATION CONTACT: Ms. Marian R. Norris, Code SB, National Aeronautics and Space Administration, Washington, DC 20546, (202) 358-4452.

SUPPLEMENTARY INFORMATION: The meeting will be open to the public up to the capacity of the room. The agenda for the meeting includes the following topics:

• AA program Status Report.

• Division Status and Subcommittee Meeting Reports.

• Presentations and Discussion on Explorer and Discovery Program Cost Caps.

• Review of GPRA Science Theme Progress Assessments.

• Technology Management Update.

Attendees will be requested to sign a register and to comply with NASA security requirements, including the presentation of a valid picture ID, before receiving an access badge. To expedite admittance, attendees can provide identifying information three business days in advance by contacting Ms. Marian Norris via e-mail at mnorris@nasa.gov or by telephone at 202/358-4452. Foreign nationals attending this meeting will be required to provide the following information by close of business August 5: full name; gender; date/place of birth; citizenship; visa/greencard information (number, type, expiration date); employer/affiliation information (name of institution, address, country, phone); title/position of attendee. Foreign nationals will be escorted at all times.

It is imperative that the meeting be held on these dates to accommodate the scheduling priorities of the key participants. Any member of the public may file a written statement with the Committee; such statements should be provided to the contact above no later than five working days before the meeting. Visitors to the meeting will be requested to sign a visitor's register.

June W. Edwards,
Advisory Committee Management Officer, National Aeronautics and Space Administration.

[FR Doc. 03-19170 Filed 7-28-03; 8:45 am]

BILLING CODE 7510-01-P